SMALL BUSINESS ADMINISTRATION

National Small Business Development Center Advisory Board; Public Meeting

Pursuant to the Federal Advisory Committee Act, 5 U.S.C. Appendix 2, section 10(a)(2), notice is hereby given that the U.S. Small Business Administration's (SBA) National Small Business Development Center Advisory Board will be hosting a public meeting via conference call. The meeting is scheduled for Tuesday, March 18, 2008 at 1 p.m. Eastern Standard Time.

The purpose of this meeting is to discuss the follow-up issues from a March 4, 2008 Board meeting and an ASBDC Spring Conference on March 3-7, 2008 in Washington, DC.

The meeting is open to the public however advance notice of attendance is requested. Anyone wishing to attend the meeting or make an oral presentation to the board must contact Alanna Falcone by Monday, March 17, 2008 by e-mail at alanna.falcone@sba.gov or fax to (202) 481-0134, for the conference call phone number and passcode.

Cherylyn LeBon,
Assistant Administrator for Intergovernmental Affairs, SBA Committee Management Officer.

[FR Doc. E8-3876 Filed 2-28-08; 8:45 am]

BILLING CODE 8025-01-P